DEPARTMENT OF TRANSPORTATION

National Highway Traffic Safety Administration

[Docket No. NHTSA-2005-21192; Notice 1]

ArvinMeritor, Inc., Receipt of Petition for Decision of Inconsequential Noncompliance

ArvinMeritor Inc. (ArvinMeritor) has determined that certain automatic slack adjusters assembled by the petitioner in 2004 do not comply with S5.1.8(a) and S5.2.2(a) of 49 CFR 571.121, Federal Motor Vehicle Safety Standard (FMVSS) No. 121, “Air brake systems.” ArvinMeritor has filed an appropriate report pursuant to 49 CFR Part 573, “Defect and Noncompliance Reports.”

Pursuant to 49 U.S.C. 30118(d) and 30120(h), ArvinMeritor has petitioned for an exemption from the notification and remedy requirements of 49 U.S.C. chapter 301 on the basis that this noncompliance is inconsequential to motor vehicle safety.

This notice of receipt of ArvinMeritor's petition is published under 49 U.S.C. 30118 and 30120 and does not represent any agency decision or other exercise of judgment concerning the merits of the petition.

Affected are a total of approximately 187 automatic slack adjusters assembled between October 13, 2004 and December 20, 2004. S5.1.8(a) is applicable to trucks and buses, and S5.2.2(a) is applicable to trailers. Both sections are titled “Brake adjuster,” and both require that:

Wear of the service brakes shall be compensated for by means of a system of automatic adjustment. When inspected pursuant to S5.9, the adjustment of the service brakes shall be within the limits recommended by the vehicle manufacturer.

ArvinMeritor states that the noncompliant automatic slack adjusters were assembled with housings supplied by TaeJoo Ind. Co., Ltd., and these housings were below the dimensional specifications. The petitioner states that as a result, there is interference between the automatic slack adjuster pawl and the housing cavity in which the pawl is positioned, preventing the pawl from properly engaging the actuator, which can result in a reduction or elimination of the automatic adjustment function as required by S5.1.8(a) and S5.2.2(a).

ArvinMeritor believes that the noncompliance is inconsequential to motor vehicle safety and that no corrective action is warranted. ArvinMeritor states that it has conducted dynamic testing of vehicles simulating the affected automatic slack adjusters and based on the results of this testing, ArvinMeritor is satisfied that the braking systems will still halt a vehicle within the stopping distances required by FMVSS No. 121. (The technical summary of brake performance evaluation tests can be found in the NHTSA Docket as an attachment to ArvinMeritor's petition.)

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: June 16, 2005.

Authority: 49 U.S.C. 30118, 30120: delegations of authority at CFR 1.50 and 501.8.

Issued on: May 11, 2005.
Ronald L. Medford,
Senior Associate Administrator for Vehicle Safety.

[FR Doc. 05-9741 Filed 5-16-05; 8:45 am]

BILLING CODE 4910-59-P